DEPARTMENT OF HEALTH AND HUMAN SERVICES

National Institutes of Health

National Center for Complementary & Alternative Medicine; Amended Notice of Meeting

Notice is hereby given of a change in the meeting of the National Advisory Council for Complementary and Alternative Medicine, September 8, 2006, 9 a.m. to September 8, 2006, 4 p.m., National Institutes of Health, Neuroscience Building, 6001 Executive Boulevard, Rooms C & D, Rockville, MD 20852, which was published in the Federal Register on July 28, 2006, 71 FR 42860.

This meeting is being amended due to the start time change for the Open session from 2 p.m. to 1:30 p.m. The meeting is partially Closed to the public.

Dated: August 28, 2006.
Anna Snouffer,
Acting Director, Office of Federal Advisory Committee Policy.

[FR Doc. 06-7436 Filed 9-5-06; 8:45 am]

BILLING CODE 4140-01-M